DEPARTMENT OF HEALTH AND HUMAN SERVICES

Centers for Medicare & Medicaid Services

[Document Identifiers: CMS-18F5 and CMS-10537]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by June 3, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-18F5 Application for Enrollment in Medicare Part A internet Claim (iClaim) Application Screen Modernized Claims System and Consolidated Claim Experience Screens Survey Form

CMS-10537 CAHPS Hospice Survey

Under the PRA (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires Federal agencies to publish a 60-day notice in the Federal Register concerning each proposed collection of information, including each proposed extension or reinstatement of an existing collection of information, before submitting the collection to OMB for approval. To comply with this requirement, CMS is publishing this notice.

Information Collection

1. Type of Information Collection Request: Extension without change of a currently approved collection; Title of Information Collection: Application for Enrollment in Medicare Part A Internet Claim (iClaim) Application Screen Modernized Claims System and Consolidated Claim Experience Screens; Use: The Centers for Medicare and Medicaid Services (CMS) Form “Application for Hospital Insurance” supports sections 1818 and 1818A of the Social Security Act (the Act) and corresponding regulations at 42 CFR 406.6 and 406.7.

The CMS-18-F5 is used to establish entitlement to Part A and enrollment in Part B for claimants who must file an application. The application follows the questions and requirements used by SSA on the electronic application. This is done not only for consistency purposes but because certain requirements under titles II and XVIII of the act must be met in order to qualify for Part A and Part B; including insured status, relationship and residency. The form is owned by CMS but is not utilized by CMS staff. SSA uses the form to collect information and make Part A and Part B entitlement determinations on behalf of CMS. Form Number: CMS-18F5 (OMB control number: 0938-0251); Frequency: Once; Affected Public: Individuals and Households; Number of Respondents: 1,042,263; Total Annual Responses: 1,042,263; Total Annual Hours: 260,566. (For policy questions regarding this collection contact Carla Patterson at 410-786-8911 or Carla.Patterson@cms.hhs.gov).

2. Type of Information Collection Request: Revision of a currently approved collection; Title of Information Collection: CAHPS Hospice Survey; Use: CMS launched the development of the CAHPS Hospice Survey in 2012. Public reporting of the results on Hospice Compare started in 2018. The goal of the survey is to measure the experiences of patients and their caregivers with hospice care. The survey was developed to:

• Provide a source of information from which selected measures could be publicly reported to beneficiaries and their family members as a decision aid for selection of a hospice program;

• Aid hospices with their internal quality improvement efforts and external benchmarking with other facilities; and

• Provide CMS with information for monitoring the care provided.

Surveys focusing on patients' experience of care with their health care providers are an important part of the NQS. In addition to publicly reporting clinical quality measures, CMS is currently reporting measures from patient experience of care surveys in a variety of settings, including in-center hemodialysis (ICH) centers, hospitals, home health agencies, and hospices on the Medicare Care Compare website. (https://www.medicare.gov/care-compare). Form Number: CMS-10537 (OMB control number: 0938-1257); Frequency: Once; Affected Public: Individuals and Households; Number of Respondents: 1,159,420; Total Annual Responses: 1,159,420; Total Annual Hours: 168,115.90. (For policy questions regarding this collection contact Lauren Fuentes at 410-786-2290 or 443-618-2123).

William N. Parham, III,
Director, Division of Information Collections and Regulatory Impacts, Office of Strategic Operations and Regulatory Affairs.

[FR Doc. 2024-07162 Filed 4-3-24; 8:45 am]

BILLING CODE 4120-01-P